FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center Web site at www.ffiec.gov/nic/.

Unless otherwise noted, comments regarding each of these applications must be received at the Reserve Bank indicated or the offices of the Board of Governors not later than April 28, 2008.

A. Federal Reserve Bank of New York (Anne MacEwen, Bank Applications Officer) 33 Liberty Street, New York, New York 10045-0001:

1. Modern Bank Management LLC, Modern Bank Partners LLC, and Modern Financial Inc., all of New York, New York; to become bank holding companies by acquiring 100 percent of the voting shares of Modern Bank, N.A., New York, New York.

2. National Australia Bank Limited, National Equities Limited, both of Melbourne, Australia, and National Americas Investment, Inc., National Americas Holdings LLC, both of New York, New York; to become bank holding companies by acquiring 100 percent of the voting shares of Great Western Bancorporation, Inc., Omaha, Nebraska, and its subsidiary, Great Western Bank, Watertown, South Dakota. Comments regarding this application must be received not later than April 18, 2008.

B. Federal Reserve Bank of Minneapolis (Jacqueline G. King, Community Affairs Officer) 90 Hennepin Avenue, Minneapolis, Minnesota 55480-0291:

1. Kirkwood Bancorporation Co., Bismark, North Dakota; to acquire 27.67 percent of the voting shares of Kirkwood Bancorporation of Nevada, Inc., and thereby indirectly acquire voting shares of Kirkwood Bank of Nevada, both of Las Vegas, Nevada, a de novo bank.

2. Kirkwood Bancorporation of Nevada, Inc.; to become a bank holding company by acquiring 100 percent of the voting shares of Kirkwood Bank of Nevada, both of Las Vegas, Nevada, a de novo bank.

Board of Governors of the Federal Reserve System, March 31, 2008.
Robert deV. Frierson,
Deputy Secretary of the Board.

[FR Doc. E8-6925 Filed 4-2-08; 8:45 am]

BILLING CODE 6210-01-S